DEPARTMENT OF HEALTH AND HUMAN SERVICES

Centers for Medicare & Medicaid Services

[Document Identifier: CMS-43, CMS-R-142, CMS-4040 & 4040-SP, CMS-10210, and CMS-R-284]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Application for Hospital Insurance Benefits for individuals with End Stage Renal Disease; Use: 42 CFR 406.13 outlines the requirements for entitlement to Medicare Part A (hospital insurance [HI]) and Part B (supplementary medical insurance [SMI]) for individuals with End Stage Renal Disease (ESRD). 42 CFR 406.7 lists the CMS-43 form, Application for Hospital Insurance Benefits for Individuals with End Stage Renal Disease, as the application to be used by individuals applying for Medicare under the ESRD provisions of the Act. The form CMS-43 elicits the information that the Social Security Administration and the Centers for Medicare & Medicaid Services need to determine entitlement to Medicare based on the ESRD requirements of the law and regulations. Form Number: CMS-43 (OMB#: 0938-0800); Frequency: Reporting—Once; Affected Public: Individuals or households; Number of Respondents: 60,000; Total Annual Responses: 60,000; Total Annual Hours: 25,989.60.

2. Type of Information Collection Request: Extension of a currently approved collection; Title of Information Collection: Examination and Treatment for Emergency Medical Conditions and Women in Labor Act (EMTALA) and Supporting Regulations in 42 CFR 482.12, 488.18, 489.20, and 489.24; Use: As mandated by Congress, the information collection requirements found in supporting regulations in 42 CFR 482.12, 488.18, 489.20, and 489.24, aim to prevent hospitals from inappropriately transferring individuals with emergency medical conditions. These requirements are supported by two other current statutes. Section 1861(e)(9) of the Act permits the Secretary to impose on hospitals such other requirements as he finds necessary in the interests of the health and safety of individuals who are furnished services in the institution. It is under this authority that the Secretary has obligated hospitals that participate in Medicare to report when they receive patients that have been inappropriately transferred. Under section 1866(b)(2)(A) and (B) of the Social Security Act (the Act), the Secretary may terminate the provider agreement of a hospital that is not complying substantially with the statute and regulations under title XVIII or that no longer substantially meets the provisions of section 1861 of the Act. Form Number: CMS-R-142 (OMB#: 0938-0667); Frequency: Recordkeeping and Reporting—On occasion; Affected Public: Individuals or households, Business or other for-profit, Not-for-profit, State, Local or Tribal Governments, Federal Government; Number of Respondents: 5,600; Total Annual Responses: 5,600; Total Annual Hours: 1.

3. Type of Information Collection Request: Extension of a currently approved collection; Title of Information Collection: Request for Enrollment in Supplementary Medical Insurance; Use: 42 CFR 407.10 lists the alternative requirements for enrollment in Part B for any individual who is not entitled to hospital insurance under Part A but has attained age 65 and is either a citizen of the United States (U.S.) or an alien lawfully admitted for permanent residence who has lived in the U.S. continually for 5 years. 42 CFR 407.11 lists the CMS-4040 form, Request for Enrollment in Supplementary Medical Insurance, as the application to be used by individuals not eligible for monthly benefits or free Part A. Form CMS-4040 elicits the information that the Social Security Administration and Centers for Medicare & Medicaid Services need to determine entitlement to Part B only. Form Number: CMS-4040, 4040-SP (OMB#: 0938-0245); Frequency: Reporting—Once; Affected Public: Individuals or households; Number of Respondents: 10,000; Total Annual Responses: 10,000; Total Annual Hours: 25,000.

4. Type of Information Collection Request: New collection; Title of Information Collection: Hospital Reporting Initiative—Hospital Quality Measures (Surgical Care Improvement (SCIP) Measures/Mortality Measures; Use: The purpose of this information collection request is to collect data to produce valid, reliable, comparable and salient quality measures to provide a potent stimulus for clinicians and providers to improve the quality of care they provide. The reporting of Surgical Care Improvement (SCIP) measures is currently being collected from hospitals for activities associated with the Quality Improvement Organization (QIO) Program. Section 5001(a) of Public Law 109-171 of the Deficit Reduction Act sets out new requirements under the Reporting Hospital Quality Data for Annual Payment Update program. This program was initially established under section 501(b) of the MMA which offers monetary incentives for hospitals participating in the reporting of quality data. The Act requires that we expand the existing “starter set” of 10 quality measures that we have used since 2003. Although, this effort increases the volume of data currently reported into the QIO Clinical Data Warehouse; it however, does not place a substantial data collection burden on hospitals. A substantial percentage of hospitals are voluntarily submitting these SCIP measures currently. In contrast to the SCIP quality measures, no additional data collection from hospitals will be required from the mortality measures. All three mortality measures can be calculated based on Medicare inpatient and outpatient claims data that are already reported to the Medicare program for payment purposes. Form Number: CMS-10210 (OMB#: 0938-NEW); Frequency: Recordkeeping, Reporting, Third-Party Disclosure—Quarterly; Affected Public: Business or other for-profit, Not-for-profit; Number of Respondents: 3,700; Total Annual Responses: 3,700; Total Annual Hours: 587,500.

5. Type of Information Collection Request: Revision of a currently approved collection; Title of Information Collection: Medicaid Statistical Information System; Use: State data are reported by the Federally mandated electronic process, known as Medicaid Statistical Information System (MSIS). These data are the basis of actuarial forecasts for Medicaid service utilization and costs; of analysis and cost savings estimates required for legislative initiatives relating to Medicaid; and for responding to requests for information from CMS components, the Department, Congress and other customers. Form Number: CMS-R-284 (OMB#: 0938-0345); Frequency: Quarterly; Affected Public: State, Local or Tribal Government; Number of Respondents: 53; Total Annual Responses: 212; Total Annual Hours: 3,392.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on December 12, 2006.

CMS, Office of Strategic Operations and Regulatory Affairs, Division of Regulations Development—C, Attention: Bonnie L Harkless, Room C4-26-05, 7500 Security Boulevard, Baltimore, Maryland 21244-1850.

Dated: October 4, 2006.
Michelle Shortt,
Director, Regulations Development Group, Office of Strategic Operations and Regulatory Affairs.

[FR Doc. E6-17035 Filed 10-12-06; 8:45 am]

BILLING CODE 4120-01-P